DEPARTMENT OF DEFENSE

Department of the Navy

Notice of Intent To Grant Exclusive Patent License; Expression Pathology, Inc.

AGENCY: Department of the Navy, DOD.

ACTION: Notice.

SUMMARY: The Department of the Navy hereby gives notice of its intent to grant to Expression Pathology, Inc., a revocable, nonassignable, exclusive license to practice in the field of consumables for laser microdissection of human tissue samples for life science research, therapeutics and clinical diagnostic applications in the United States and certain foreign countries, the Government-owned inventions described in U.S. Patent No. 6,905,738: Generation of Viable Cell Active Biomaterial Patterns by Laser Transfer, Navy Case No. 79,702.//U.S. Patent No. 6,936,311: Generation of Biomaterial Microarrays by Laser Transfer, Navy Case No. 82,621.//U.S. Patent Application Serial No. 10/863,833: Biological Laser Printing for Tissue Microdissection via Indirect Photon-Biomaterial Interactions, Navy Case No. 96,075.//U.S. Patent Application Serial No. 10/863,850: Biological Laser Printing for Tissue Microdissection via Indirect Photon-Biomaterial Interactions, Navy Case No. 84,621 and any continuations, divisionals or re-issues thereof.

DATES: Anyone wishing to object to the grant of this license must file written objections along with supporting evidence, if any, not later than December 23, 2005.

ADDRESSES: Written objections are to be filed with the Naval Research Laboratory, Code 1004, 4555 Overlook Avenue, SW., Washington, DC 20375-5320.

FOR FURTHER INFORMATION CONTACT: Ms. Jane Kuhl, Head, Technology Transfer Office, NRL Code 1004, 4555 Overlook Avenue, SW., Washington, DC 20375-5320, telephone 202-767-3083.

Due to U.S. Postal delays, please fax 202-404-7920, E-Mail: kuhl@utopia.nrl.navy.mil or use courier delivery to expedite response.

(Authority: 35 U.S.C. 207, 37 CFR part 404.)

Dated: December 2, 2005.
Eric Mcdonald,
Lieutenant Commander, Judge Advocate General's Corps, U.S. Navy, Federal Register Liaison Officer.

[FR Doc. E5-7049 Filed 12-7-05; 8:45 am]

BILLING CODE 3810-FF-P